DEPARTMENT OF THE TREASURY

Internal Revenue Service

Open Meeting of the Taxpayer Advocacy Panel Taxpayer Communications Project Committee

AGENCY: Internal Revenue Service (IRS), Treasury.

ACTION: Notice of meeting: correction

SUMMARY: In the Federal Register notice that was originally published on April 6, 2023, (Volume 88, Number 66, Page 20612) the day for this meeting has been corrected from Wednesday to Thursday, April 13, 2023, at 12 p.m. Eastern Time. All other meeting details remain unchanged.

DATES: The meeting will be held Thursday, April 13, 2023.

FOR FURTHER INFORMATION CONTACT: Conchata Holloway at 1-888-912-1227 or 214-413-6550.

SUPPLEMENTARY INFORMATION: Notice is hereby given pursuant to Section 10(a)(2) of the Federal Advisory Committee Act, 5 U.S.C. App. (1988) that a meeting of the Taxpayer Advocacy Panel Taxpayer Communications Project Committee will be held Thursday, April 13, 2023, at 12 p.m. Eastern Time. The public is invited to make oral comments or submit written statements for consideration. Due to limited time and structure of meeting, notification of intent to participate must be made with Conchata Holloway. For more information, please contact Conchata Holloway at 1-888-912-1227 or 214-413-6550, or write TAP Office, 1114 Commerce St. MC 1005, Dallas, TX 75242 or contact us at the website: http://www.improveirs.org. The agenda includes: Welcoming; Roll Call; Agenda Review; Designated Federal Officer Report; National Office Report; Chair Report; Minute Review Approval/Denial; Public Comment; Subcommittee Reports; Outreach Report; Screening Report; Internal Communications Briefing; Action Items; Roundtable; and Closing.

Dated: April 7, 2023.
Kevin Brown,
Acting Director, Taxpayer Advocacy Panel.

[FR Doc. 2023-07753 Filed 4-12-23; 8:45 am]

BILLING CODE 4830-01-P